DEPARTMENT OF TRANSPORTATION

Office of the Secretary

Aviation Proceedings, Agreements Filed the Week Ending June 19, 2010

The following Agreements were filed with the Department of Transportation under Sections 412 and 414 of the Federal Aviation Act, as amended (49 U.S.C. 1382 and 1384) and procedures governing proceedings to enforce these provisions. Answers may be filed within 21 days after the filing of the application.

Docket Number DOT-OST-2010-0155.

Date Filed June 16, 2010.

Parties Members of the International Air Transport Association.

Subject Mail Vote 640—Resolution 010y. PTC3 Japan, Korea-South East Asia. Special Passenger Amending Resolution 010y between Korea (Rep. of) and Thailand (Memo 1395). Intended effective date: 23 June 2010.

Renee V. Wright,
Program Manager, Docket Operations, Federal Register Liaison.

[FR Doc. 2010-16611 Filed 7-7-10; 8:45 am]

BILLING CODE 4910-62-P